DEPARTMENT OF TRANSPORTATION

Federal Highway Administration

23 CFR Part 655

[FHWA Docket No. FHWA-2001-8846]

RIN 2125-AE83

Revision of the Manual on Uniform Traffic Control Devices; Accessible Pedestrian Signals

AGENCY: Federal Highway Administration (FHWA), DOT.

ACTION: Interim final rule; request for comments.

SUMMARY: This document contains Revision No. 1 to the 2000 Millennium Edition of the Manual on Uniform Traffic Control Devices (MUTCD) as adopted by the FHWA. The 2000 Millennium Edition of the MUTCD is incorporated by reference in 23 CFR Part 655, subpart F, and recognized as the national standard for traffic control devices used on all public roads. The purpose of this revision is to revise the guidance and supporting information relating to the decisionmaking process concerning accessible pedestrian signals in Parts 1 and 4 of the MUTCD.

The FHWA is issuing an interim final rule to provide an opportunity for the public to review and make comment on the necessary changes to the pertinent electronic files on the FHWA's MUTCD Internet site (http://mutcd.fhwa.dot.gov) to comply with section 508 of the Rehabilitation Act of 1973. After reviewing comments regarding these electronic files, the FHWA may modify the interim final rule and issue a revision and a final rule.

DATES: This interim final rule is effective March 18, 2002. Comments related to the necessary changes made to the pertinent electronic files in order to comply with section 508 must be received on or before April 16, 2002. The incorporation by reference of the publication listed in this regulation is approved by the Director of the Office of the Federal Register as of March 18, 2002.

FOR FURTHER INFORMATION CONTACT: Mr. Ernest Huckaby, Office of Transportation Operations, Room 3408, (202) 366-9064, or Mr. Raymond Cuprill, Office of the Chief Counsel, Room 4230, (202) 366-0791, Department of Transportation, Federal Highway Administration, 400 Seventh Street, SW., Washington, DC 20590. Office hours are from 7:45 a.m. to 4:15 p.m., e.t., Monday through Friday, except Federal holidays.

SUPPLEMENTARY INFORMATION:

Electronic Access

Internet users may access all comments received by the U.S. DOT Dockets, Room PL-401, by using the universal resource locator (URL) http://dms.dot.gov. It is available 24 hours each day, 365 days each year. Please follow the instructions online for more information and help.

An electronic copy of this action may be downloaded using a modem and suitable communications software from the Government Printing Office's Electronic Bulletin Board Service at (202) 512-1661. Internet users may reach the Office of the Federal Register's home page at: http://www.nara.gov/fedreg and the Government Printing Office's database at: http://www.access.gpo.gov/nara.

Background

The text of Revision No. 1 and the text of the 2000 Millennium Edition of the MUTCD with Revision No. 1 text incorporated are available for inspection and copying as prescribed in 49 CFR part 7 at the FHWA Office of Transportation Operations. Furthermore, Revision No. 1 changes, as discussed here, are available on the MUTCD Internet site (http://mutcd.fhwa.dot.gov). The entire MUTCD text with Revision No. 1 text incorporated is also available on this Internet site.

Section 508 of the Rehabilitation Act, 29 U.S.C. 794d (2001), requires that certain electronic and information technology (“EIT”) be accessible to individuals with disabilities. By regulation, 36 CFR 1194.4 (2001), EIT includes information contained on world wide websites. Therefore, to comply with Section 508, the FHWA has added to its MUTCD Internet site (http://mutcd.fhwa.dot.gov), for the electronic files which are affected by this interim final rule, an alternative format (hypertext markup language—HTML), that is accessible to individuals with disabilities. Included within those HTML files are narrative descriptions of the illustrations (figures) that are contained within the affected non-accessible format electronic files. The FHWA is issuing this interim final rule to provide an opportunity for the public to review and make comment on the narrative descriptions of the illustrations. After reviewing comments regarding these descriptions, the FHWA may modify the interim final rule and issue a revision and a final rule.

Summary of Comments

The FHWA published a notice of proposed amendment (NPA) on May 17, 2001, at 66 FR 27480, with a 30-day comment period, in response to several letters received by the U.S. Department of Transportation objecting to language in the text of the MUTCD summarized in the final rule published on December 18, 2000, at 65 FR 78923. The comment period ended on June 18, 2001. The FHWA has reviewed the comments received to the docket in response to the NPA. The FHWA is acting on the items published in the notice of proposed amendments, as described in the discussion below. Each action and its basis is summarized below:

Discussion of Adopted Amendments to Part 1—General

The FHWA received five comments to the docket concerning the proposed revision to Part 1. One comment was from an individual and four comments represented public/private interest groups.

1. In Section 1A.11 Relation to Other Documents, the FHWA is adding a new document, “ ‘Accessible Pedestrian Signals,’ A-37, U.S. Architectural and Transportation Barriers Compliance Board (The U.S. Access Board),” to the publications listed in the SUPPORT statement. All four of the commenters supported this change.

Discussion of Adopted Amendments to Part 4—Signals

The FHWA received five comments to the docket concerning the proposed revisions to Part 4. One comment was from an individual and four comments represented public/private interest groups.

1. In Section 4E.06 Accessible Pedestrian Signals, the FHWA is revising the first SUPPORT statement to read, “SUPPORT: The primary technique that pedestrians who have visual disabilities use to cross streets at signalized intersections is to initiate their crossing when they hear the traffic in front of them stop and the traffic alongside them begin to move, corresponding to the onset of the green interval. This technique is effective at many signalized intersections. The existing environment is often sufficient to provide the information that pedestrians who have visual disabilities need to operate safely at a signalized intersection. Therefore, many signalized intersections will not require any accessible pedestrian signals.”

Four of the commenters supported this language. The other commenter believes that although the term “many” is technically accurate regarding the number of intersections where the primary technique (used by pedestrians with visual disabilities to cross streets at signalized intersections) is effective, it understates current reality. The commenter further indicates that although no data has been published to prove the precise percentage of intersections where the primary non-visual technique to cross an intersection is effective, experience and accumulated knowledge indicate that the vast majority of intersections do not require an accessible pedestrian signal for the execution of a safe crossing. The word, “majority,” is preferred when discussing where the primary non-visual technique to cross an intersection is effective. The FHWA believes no change is necessary to this language because as indicated by the commenter, no one has any data to indicate how many intersections may or may not require accessible pedestrian signals. Furthermore, the commenter indicated that the term “many” is technically correct. Therefore, since there is no data to support that the use of the word “many” is not proper, the FHWA will use the language published in the NPA.

2. In Section 4E.06 Accessible Pedestrian Signals, the FHWA is revising the first GUIDANCE statement to read, “GUIDANCE: If a particular signalized intersection presents difficulties for pedestrians who have visual disabilities to cross safely and effectively, an engineering study should be conducted that considers the safety and effectiveness for pedestrians in general, as well as the information needs of pedestrians with visual disabilities.”

Four of the commenters support this language. The fifth commenter believes the language in the current MUTCD should be retained and a new sentence be added regarding an engineering study. The commenter reasons that local traffic engineers should be given the greatest level of flexibility to address the needs of their local community. The FHWA believes the language in Section 4E.06 of the May 17, 2001, NPA and the information in Chapter 4B of the MUTCD concerning engineering studies and engineering judgment adequately addresses the needs of all pedestrians and pedestrians who may have visual disabilities. Whether to install a traffic signal, or to install or add pedestrian signals with or without accessible pedestrian signals is and always has been a State or local public agency decision. The need for an engineering study is clearly also articulated in Chapter 2B of the MUTCD and in the first and second GUIDANCE statements of Section 4E.06. The FHWA does not believe that the proposed text diminishes how a traffic engineer will address a request for accessible pedestrian signals, and that the engineer will examine the needs of all pedestrians and find solutions within the means of his/her jurisdiction to any discovered issue.

3. In Section 4E.06 Accessible Pedestrian Signals, the FHWA is revising the second paragraph of the second SUPPORT statement to read, “Local organizations, providing support services to pedestrians who have visual and/or hearing disabilities, can often act as important advisors to the traffic engineer when consideration is being given to the installation of devices to assist such pedestrians. Additionally, orientation and mobility specialists or similar staff also might be able to provide a wide range of advice. The U.S. Access Board's Document A-37, ‘Accessible Pedestrian Signals,’ provides various techniques for making pedestrian signal information available to persons with visual disabilities.” All five of the commenters support this language.

4. In Section 4E.06 Accessible Pedestrian Signals, the FHWA is deleting the second GUIDANCE statement from the MUTCD. This statement covered the consideration of advice from organizations that represent individuals with disabilities (this consideration is already covered in the second SUPPORT statement), and covered the process of determining whether accessible pedestrian signals are needed and the cost considerations (the process is already covered in the revised first GUIDANCE statement that discusses an engineering study. An engineering study covers the consideration of cost).

Four of the commenters support the deletion of this language. The fifth commenter believes that without this text there will be a tendency to give deference to organizations and agencies controlled by professionals in the field. The commenter believes that it is imperative that traffic engineers also seek the advice of organizations representing the blind and visually impaired and from local members of the blind and visually impaired community. The FHWA believes that this deletion will not result in traffic engineers giving deference to just “organizations and agencies controlled by professionals in the field.” The text stated that “Advice from organizations who represent pedestrians * * * should be given deference.” Deleting this text eliminates this language. Additionally, the FHWA believes that the SUPPORT information in the revised second paragraph of the second SUPPORT statement provides three different types of ways for traffic engineers to receive input, in addition to the members of the local blind and visually impaired community who initiated the request.

The fifth commenter was concerned with the deletion of the second paragraph of the second GUIDANCE statement because “a request from a single individual or a small number of individuals may initiate a study and examination of whether APS's [accessible pedestrian signals] should be installed.” The FHWA believes the revised text adequately provides guidance on when engineering studies of a signalized intersection should be conducted and that the second paragraph of the second GUIDANCE statement is no longer needed. Engineering studies can examine numerous tools to assist pedestrians, including accessible pedestrian signals.

Rulemaking Analysis and Notices

Executive Order 12866 (Regulatory Planning and Review) and DOT Regulatory Policies and Procedures

The FHWA has determined that this action is not a significant regulatory action within the meaning of Executive Order 12866 or significant within the meaning of U.S. Department of Transportation regulatory policies and procedures. The economic impact of this rulemaking will be minimal. The changes in this interim final rule provide additional guidance and support information relating to the decisionmaking process concerning whether or not to install accessible pedestrian signals. The FHWA believes that the uniform application of traffic control devices will greatly improve the traffic operations efficiency and roadway safety. The standards, guidance, and support are also used to create uniformity and to enhance safety and mobility at little additional expense to public agencies or the motoring public. Therefore, a full regulatory evaluation is not required.

Regulatory Flexibility Act

In compliance with the Regulatory Flexibility Act (5 U.S.C. 601-612), the FHWA has evaluated the effects of this action on small entities. This interim final rule only revises guidance and support information related to the decisionmaking process concerning accessible pedestrian signals in the MUTCD. The changes are intended to improve traffic operations and safety, to expand guidance, and to clarify the application of traffic control devices as related to accessible pedestrian signals. The FHWA hereby certifies that these revisions will not have a significant economic impact on a substantial number of small entities.

Unfunded Mandates Reform Act of 1995

This action will not impose unfunded mandates as defined by the Unfunded Mandates Reform Act of 1995 (Public Law 104-4, March 22, 1995, 109 Stat. 48). This rule will not result in the expenditure by State, local, and tribal governments, in the aggregate, or by the private sector, of $100 million or more in any one year (2 U.S.C. 1531 et seq.).

Executive Order 13132 (Federalism)

This action has been analyzed in accordance with the principles and criteria contained in Executive Order 13132, dated August 4, 1999, and the FHWA has determined that this action does not have a substantial direct effect or sufficient federalism implications on States and local governments that would limit the policymaking discretion of the States and local governments. This action merely adds guidance and supporting information for the decisionmaking process concerning whether or not to install accessible pedestrian signals. The FHWA has also determined that this action will not preempt any State law or regulation or affect the State's ability to discharge traditional State government functions.

Executive Order 13175 (Tribal Consultation)

The FHWA has analyzed this action under Executive Order 13175, dated November 6, 2000, and believes that it will not have substantial direct effects on one or more Indian tribes; will not impose substantial direct compliance costs on Indian tribal governments; and will not preempt tribal law. This action merely adds guidance and supporting information for the decisionmaking process concerning whether or not to install accessible pedestrian signals. Therefore, a tribal summary impact statement is not required.

Executive Order 12372 (Intergovernmental Review)

Catalog of Federal Domestic Assistance Program Number 20.205, Highway Planning and Construction. The regulations implementing Executive Order 12372 regarding intergovernmental consultation on Federal programs and activities apply to this program.

Paperwork Reduction Act

Under the Paperwork Reduction Act of 1995 (PRA) (44 U.S.C. 3501, et seq.), Federal agencies must obtain approval from the Office of Management and Budget (OMB) for each collection of information they conduct, sponsor, or require through regulations. The FHWA has determined that this action does not contain a collection of information requirement for purposes of the PRA.

Executive Order 12988 (Civil Justice Reform)

This action meets applicable standards in Sections 3(a) and 3(b)(2) of Executive Order 12988, Civil Justice Reform, to minimize litigation, to eliminate ambiguity, and to reduce burden.

Executive Order 13045 (Protection of Children)

The FHWA has analyzed this action under Executive Order 13045, Protection of Children from Environmental Health Risks and Safety Risks. This is not an economically significant action and does not concern an environmental risk to health or safety that may disproportionately affect children.

Executive Order 12630 (Taking of Private Property)

This action will not effect a taking of private property or otherwise have taking implications under Executive Order 12630, Governmental Actions and Interference with Constitutionally Protected Property Rights.

Executive Order 13211 (Energy Effects)

We have analyzed this interim final rule under Executive Order 13211, Actions Concerning Regulations That Significantly Affect Energy Supply, Distribution, or Use. We have determined that it is not a significant energy action under that order because it is not a significant regulatory action under Executive Order 12866 and is not likely to have a significant adverse effect on the supply, distribution, or use of energy. Therefore, a Statement of Energy Effects under Executive Order 13211 is not required.

National Environmental Policy Act

The agency has analyzed this action for the purpose of the National Environmental Policy Act of 1969 (42 U.S.C. 4321 et seq.) and has determined that it will not have any effect on the quality of the environment.

Regulation Identification Number

A regulation identification number (RIN) is assigned to each regulatory action listed in the Unified Agenda of Federal Regulations. The Regulatory Information Service Center publishes the Unified Agenda in April and October of each year. The RIN contained in the heading of this document can be used to cross reference this action with the Unified Agenda.

List of Subjects in 23 CFR Part 655

Design standards, Grant programs—transportation, Highways and roads, Incorporation by reference, Signs, Traffic regulations.

Issued on: February 8, 2002.
Mary E. Peters,
Administrator, Federal Highway Administrator.

The FHWA hereby amends chapter I of title 23, Code of Federal Regulations, part 655 as set forth below:

PART 655—TRAFFIC OPERATIONS

1. The authority citation for part 655 continues to read as follows:

Authority: 23 U.S.C. 101(a), 104, 109(d), 114(a), 217, 315, and 402(a); 23 CFR 1.32; and 49 CFR 1.48(b).

Subpart F—Traffic Control Devices on Federal-Aid and Other Streets and Highways

2. Revise § 655.601(a) to read as follows:

§ 655.601 Purpose.

* * * * *

(a) Manual on Uniform Traffic Control Devices (MUTCD), 2000 Millennium Edition, FHWA, dated December 2000, including Errata No. 1 to MUTCD 2000 Millennium Edition dated June 14, 2001, and Revision No. 1 dated December 28, 2001. This publication is incorporated by reference in accordance with 5 U.S.C. 552(a) and 1 CFR part 51 and is on file at the Office of the Federal Register, 800 North Capitol Street, NW., Suite 700, Washington, DC. These documents are available for inspection and copying at the Federal Highway Administration, 400 Seventh Street, SW., Room 3408, Washington, DC 20590, as provided in 49 CFR Part 7. The text is also available from the Federal Highway Administration's Office of Transportation Operation's website at: http://mutcd.fhwa.dot.gov.

* * * * *

[FR Doc. 02-3619 Filed 2-14-02; 8:45 am]

BILLING CODE 4910-22-P